Proclamation 10741 of April 30, 2024

Older Americans Month, 2024

By the President of the United States of America

A Proclamation

Older Americans have worked their whole lives to achieve the American Dream for their families and communities, making our Nation stronger and building a future of possibilities for new generations. This month, we celebrate their immense contributions to our country and stand firm in our efforts to ensure that every American can age with the dignity and financial security that they deserve.

Sixty years ago, a third of older Americans still lived in poverty, and close to half had no health insurance. Over the years, Social Security, Medicare, and Medicaid helped to change that. Today, they are lifelines for tens of millions of Americans and proof of what government can do to transform lives for the better. I will always fight to protect and strengthen these programs. Folks have paid into Social Security and Medicare from their very first paychecks; the benefits of these programs belong to the American people. It is a sacred trust that people rely on. That is why I have proposed strengthening Social Security—not cutting it as others have suggested—by asking the highest-income Americans to pay their fair share. My new Budget would also extend the life of the Medicare Hospital Insurance Trust Fund indefinitely to protect the crucial health insurance that nearly 67 million Americans today rely on. At the same time, we are cracking down on so-called junk fees on retirement savings to ensure financial advisors give advice that is in your best interest rather than theirs, protecting the savings you have worked for your whole life.

Across the board, we are also working to cut the cost of health insurance and prescription drugs to give folks a little more breathing room. After years of others trying, we finally beat Big Pharma, giving Medicare the power to negotiate lower drug prices as the Department of Veterans Affairs has done for years. Our Inflation Reduction Act also caps the cost of insulin for people on Medicare at $35 per month, down from as much as $400 per month. Next year, it will cap out-of-pocket prescription drug costs for seniors on Medicare at $2,000 per year, even for expensive drugs that cost many times that. We have also expanded the range of services that people on Medicare have access to, including dental, mental health, and nutritional health services. Additionally, following an Executive Order I signed, hearing aids are now available over the counter, so millions of people with hearing loss can now buy them at a store or online without a prescription, saving up to $3,000 per pair.

Folks who have spent their whole lives building a community deserve to live, work, and participate in that community as long as they would like. That is why my Administration is also making historic investments in home care. The American Rescue Plan delivered $37 billion to help States strengthen their Medicaid home care programs by recruiting, training, and paying more home care workers and providing counseling, training, and support to family caregivers. Last year, I signed the Executive Order on Increasing Access to High-Quality Care and Supporting Caregivers, the most comprehensive set of executive actions in history for improving care for hardworking families. My new Budget would significantly expand Medicaid home care services to reduce the long waiting list and empower more folks to continue full lives in their communities. We made sure home care workers are getting a bigger share of Medicaid payments and nursing homes have enough staff to guarantee every resident the safe, healthy, caring environment they deserve. Further, we're making groundbreaking investments in the fight to end cancer and other deadly diseases as we know it, reminding us that our country can do big things when we work together.

There is still so much we can do to support our seniors. I have also called to strengthen the Earned Income Tax Credit for low-paid workers who are not raising children in their homes—saving Americans, including our Nation's older workers, an average of $800 on their taxes. My new Budget requests funding to extend my Administration's Affordable Connectivity Program, which has made internet more affordable for 4 million seniors.

Older Americans are the backbone of our Nation. They have built the foundation that we all stand upon today, guided by the core values that define America—freedom, equality, decency, and opportunity. Their work has helped prove that our Nation can do big things when we come together. Now, it is up to all of us to build a future on those same values—a future where we defend democracy instead of diminish it, safeguard our freedoms, invest in communities that have too often been left behind, and deliver for older Americans while ensuring the people they love will be taken care of for generations to come.

This month, we celebrate older Americans' contributions by recommitting to those ideals and defending everyone's right to live full lives with dignity and respect. We will always have their backs.

NOW, THEREFORE, I, JOSEPH R. BIDEN JR., President of the United States of America, by virtue of the authority vested in me by the Constitution and the laws of the United States, do hereby proclaim May 2024 as Older Americans Month. This month and beyond, I call upon all Americans to celebrate older adults for their contributions, support their independence, and recognize their unparalleled value to our Nation.

IN WITNESS WHEREOF, I have hereunto set my hand this thirtieth day of April, in the year of our Lord two thousand twenty-four, and of the Independence of the United States of America the two hundred and forty-eighth.

[FR Doc. 2024-09821

Filed 5-2-24; 8:45 am]

Billing code 3395-F4-P